DEPARTMENT OF THE INTERIOR

National Park Service

[NPS-WASO-NAGPRA-NPS0031105; PPWOCRADN0-PCU00RP14.R50000]

Notice of Inventory Completion: Michigan State University, East Lansing, MI

AGENCY: National Park Service, Interior.

ACTION: Notice.

SUMMARY: Michigan State University has completed an inventory of human remains in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to Michigan State University. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Michigan State University at the address in this notice by December 7, 2020.

ADDRESSES: Judith Stoddart, Associate Provost for University Collections and Arts Initiatives, Michigan State University, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains under the control of Michigan State University, East Lansing, MI. The human remains were removed from Kodiak Island Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Michigan State University professional staff in consultation with representatives of the Alutiiq Museum and Archaeological Repository, acting as agent for the Alutiiq Tribe of Old Harbor (previously listed as Native Village of Old Harbor and Village of Old Harbor); Kaguyak Village; Native Village of Afognak; Native Village of Akhiok; Native Village of Larsen Bay; Native Village of Ouzinkie; Native Village of Port Lions; Sun'aq Tribe of Kodiak (previously listed as Shoonaq' Tribe of Kodiak); and the Tangirnaq Native Village (previously listed as Lesnoi Village (aka Woody Island)). The Native Village of Karluk was invited to consult but did not participate. Hereafter, the Tribes identified in this paragraph are referred to as “The Tribes.”

History and Description of the Remains

On an unknown date, human remains representing, at minimum, one individual were removed from an unknown location in Kodiak Island Borough, AK. On an unknown date, the human remains (catalog number 4) were transferred to Michigan State University. On October 4, 2017, they were found in Michigan State University's Forensic Anthropology Laboratory. No known individual was identified. No associated funerary objects are present.

Determinations Made by Michigan State University

Officials of Michigan State University have determined that:

• Pursuant to 25 U.S.C. 3001(9), the human remains described in this notice represent the physical remains of one individual of Native American ancestry based on biological evidence.

• Pursuant to 25 U.S.C. 3001(2), there is a relationship of shared group identity that can be reasonably traced between the Native American human remains and The Tribes, based on archeological and geographical evidence.

Additional Requestors and Disposition

Lineal descendants or representatives of any Indian Tribe or Native Hawaiian organization not identified in this notice that wish to request transfer of control of these human remains should submit a written request with information in support of the request to Judith Stoddart, Associate Provost for University Collections and Arts Initiatives, Michigan State University, 466 W Circle Drive, East Lansing, MI 48824-1044, telephone (517) 432-2524, email stoddart@msu.edu, by December 7, 2020. After that date, if no additional requestors have come forward, transfer of control of the human remains to The Tribes may proceed.

Michigan State University is responsible for notifying The Tribes that this notice has been published.

Dated: October 22, 2020.
Melanie O'Brien,
Manager, National NAGPRA Program.

[FR Doc. 2020-24685 Filed 11-5-20; 8:45 am]

BILLING CODE 4312-52-P